DEPARTMENT OF LABOR

Pension and Welfare Benefits Administration

Publication of Year 2000 Form M-1

AGENCY: Pension and Welfare Benefits Administration, Department of Labor.

ACTION: Notice on the availability of the Year 2000 Form M-1.

SUMMARY: This document announces the availability of the Year 2000 Form M-1, Annual Report for Multiple Employer Welfare Arrangements and Certain Entities Claiming Exception. A copy of this new form is attached.

FOR FURTHER INFORMATION CONTACT: Amy Turner, Pension and Welfare Benefits Administration, Department of Labor, at (202) 219-7006.

SUPPLEMENTARY INFORMATION:

I. Background

The Form M-1 is required to be filed under section 101(g)(h) ¹ and section 734 of the Employee Retirement Income Security Act of 1974, as amended (ERISA), and 29 CFR 2520.101-2.

¹ Both the Small Business Job Protection Act of 1996 (Pub. L. 104-188) and the Health Insurance Portability and Accountability Act of 1996 (Pub. L. 104-191) created a new section 101(g) of ERISA. Accordingly, section 101(g) of ERISA that relates to reporting by certain arrangements is referred to in this document as section 101(g)(h) of ERISA.

II. The Year 2000 Form M-1

This document announces the availability of the Year 2000 Form M-1, Annual Report for Multiple Employer Welfare Arrangements (MEWAs) and Certain Entities Claiming Exception (ECEs). A copy of this new form is attached.

This year's Form M-1 has been revised to incorporate clarifications already published by the Department of Labor's Pension and Welfare Benefits Administration (PWBA) in question-and-answer guidance with respect to the 1999 Form M-1. In addition, the filing deadlines for the Year 2000 Form M-1 are different from those for the Year 1999 Form M-1. Specifically, the Year 2000 Form M-1 is generally due March 1, 2001, with an extension until May 1, 2001 available. These Year 2000 deadlines were also previously published; they are included in the Department of Labor's regulations implementing the Form M-1 filing requirement and they were set forth in last year's Form M-1.

PWBA is committed to working together with administrators to help them comply with this filing requirement. Additional copies of the Form M-1 are available on the Internet at: http://www.dol.gov/dol/pwba. In addition, after printing, copies will be available by calling the PWBA toll-free publication hotline at 1-800-998-7542. Questions on completing the form are being directed to the PWBA help desk at (202) 219-8770.

Statutory Authority

Sec. 29 U.S.C. 1024, 1027, 1059, 1132(c)(5), 1135, 1171-1173, 1181-1183, 1191-1194; Sec. 101, Pub. L. 104-191, 101 Stat. 1936 (29 U.S.C. 1181); Secretary of Labor's Order No. 1-87, 52 FR 13139, April 21, 1987.

Signed at Washington, DC, this 29th day of November, 2000.
Alan D. Lebowitz,
Deputy Assistant Secretary for Operations, Pension and Welfare Benefits Administration, U.S. Department of Labor.

BILLING CODE 4510-29-P

[FR Doc. 00-31703 Filed 12-12-00; 8:45 am]

BILLING CODE 4510-29-C